NUCLEAR REGULATORY COMMISSION

[Docket No. 40-8767]

Finding of No Significant Impact Related to Amendment of Materials License No. SUC-1380, U.S. Department of the Army, Lake City Army Ammunition Plant, Independence, MO

The U.S. Nuclear Regulatory Commission (NRC) is considering issuing a license amendment to Materials License No. SUC-1380, held by the U.S. Department of the Army (Army or the licensee), to authorize remediation of radioactive contamination in both the 600-yard bullet catcher and the southeast wing of Building 3A areas of its Lake City Army Ammunition Plant (LCAAP) located in Independence, Missouri.

Summary of Environmental Assessment

Background

The Army is the holder of Materials License No. SUC-1380 (hereafter, license) which the NRC originally issued on June 6, 1980, pursuant to Title 10 of the Code of Federal Regulations (10 CFR). This license, among other things, authorizes the Army to possess depleted uranium (DU) and DU-contaminated waste incident to decommissioning of facilities at LCAAP.

During the 1960s and 1970s, the Army produced and tested DU XM-101 spotter rounds at LCAAP. Part of the production of the XM-101 spotter rounds took place in the southeast wing of Building 3A. By 1968, the program was terminated and approximately 44,000 XM-101 spotter rounds were left on site. In 1971, because the rounds were fused, the licensee decided that a safe method for demilitarizing the remaining rounds was to fire the rounds into a sand-filled catch box. The actual catch box used for this demilitarization operation was the “600-yard bullet catcher.” The catch box was filled with sand as an impact material. During this demilitarization operation, the impact material in the catch box was periodically replaced with fresh impact material. The used impact material (i.e., DU-contaminated sand) was removed from the catch box and placed in an area of the site known as “Area 10.” The Army, by letter dated May 1, 1998, submitted revision 5.1 of its plan to remediate Area 10. The NRC authorized remediation of Area 10, in accordance with that plan, on August 25, 1998 (License Amendment No. 32). The LCAAP site includes two production buildings that were used to produce the DU-spotter rounds. The production buildings, 3A and 12A, were remediated in April 1987. However, during an inspection in 1995, the staff identified several locations in the southeast wing of Building 3A, on the floor and walls, with fixed or removable activity in excess of unrestricted use criteria.

The licensee, by letter dated August 12, 1998, and supplemented by letters dated March 9, June 28, December 21, 1999, and June 20, 2000, submitted its current plans for the remediation of DU and DU-contaminated material from both the LCAAP 600-yard bullet catcher area and the southeast wing of Building 3A. The Army plans to have its contractor, Allied Technology Group, Inc. (ATG), remediate these areas under the provisions of the Army's license.

Proposed Action

The licensee proposes to remediate both the 600-yard bullet catcher area and the southeast wing of Building 3A. The licensee, by letter dated August 12, 1998, and supplemented by letters dated March 9, June 28, December 21, 1999, and June 20, 2000, submitted its current plans for the remediation of DU and DU-contaminated material from both the LCAAP 600-yard bullet catcher area and the southeast wing of Building 3A. The DU-contaminated material to be removed from the 600-yard bullet catcher area will most likely also contain some lead. The licensee will perform the remediation by surveying, excavating, packaging, and transporting, by a combination of truck and rail, DU and DU-contaminated material from the LCAAP to a licensed low-level radioactive waste disposal facility for disposal.

The Need for Proposed Action

The proposed action is necessary to allow the licensee to gather and remove DU and DU-contaminated material from both the LCAAP 600-yard bullet catcher area and the southeast wing of Building 3A. This action will facilitate remediation of both radiologically contaminated areas sufficiently to meet NRC's unrestricted-use release criteria, and is one of the actions necessary for removal of the LCAAP from the Army's Materials License SUC-1380.

Alternative to Proposed Action

An alternative to the proposed action is a no-action alternative. The no-action alternative would mean that both the LCAAP 600-yard bullet catcher area and the southeast wing of Building 3A would not be remediated at this time. This conflicts with NRC's requirements in § 40.42 of timely remediation at sites that have ceased operations. Although that while there is no immediate threat to the public health and safety from this site, as long as the licensee maintains appropriate controls over the radioactive material, not undertaking remediation at this time, does not resolve the regulatory and potential long-term health and safety problems involved in storing this waste. No action now would delay remediation of these areas until some time in the future, when costs could be much higher than they are today. It is even possible that no disposal option will be available in the future if current low-level radioactive waste disposal facilities are closed and no new ones are opened. Therefore, the no-action alternative is not acceptable.

Environmental Impacts of Proposed Action

Radiological impacts on members of the public may result from inhalation and ingestion of releases of radioactivity in air and water during the remediation operations and direct exposure to radiation from material at the site during remediation operations and transport for disposal. Decommissioning workers may receive dose by ingestion, inhalation, and direct exposure during the remediation activities. In addition to impacts from routine operations, the potential radiological consequences of accidents were considered. NRC staff found that the radiological consequences of remediating both the LCAAP 600-yard bullet catcher area and the southeast wing of Building 3A were insignificant for both members of the public and radiation workers. The radiological consequences were well within the regulatory limits, as specified in 10 CFR part 20.

The licensee has estimated the amount of radioactive contaminated waste/mixed waste to be shipped to a facility approved by the NRC to receive and dispose of this waste to be approximately 1,133 m³ (40,000 ft³). The staff has determined that any facility approved by the NRC to receive and dispose of this low-level radioactive/mixed waste would be regulated either under state or Federal rules for land disposal of radioactive/mixed waste. This will provide for long-term institutional control and minimize the potential for human intrusion and other environmental impacts. Therefore, NRC staff determined that disposing of the LCAAP low-level radioactive/mixed waste at such a facility will not cause any significant impacts on the human environment.

Nonradiological impacts evaluated were associated with demography and socioeconomic, air quality, land and water use, transportation, threatened or endangered species, and historical or archeological sites. NRC staff found that the nonradiological consequences either were insignificant or would have no impacts on the human environment.

Conclusions

Based on NRC staff's evaluation of the licensee's LCAAP 600-yard bullet catcher and the southeast wing of Building 3A areas remediation plan, NRC staff has determined that the proposed plan complies with NRC's public and occupational dose and effluent limits, and that authorizing the proposed activities by license amendment would not be a major Federal action significantly affecting the quality of the human environment. NRC staff concludes that a finding of no significant impact (FONSI) is justified and appropriate, and that an environmental impact statement (EIS) is not required. An Opportunity for a Hearing was offered. ¹

¹ 64 FR 31020 (June 9, 1999).

Finding of No Significant Impact

Pursuant to 10 CFR part 51, NRC has prepared this environmental assessment (EA) related to the issuance of a license amendment to Materials License SUC-1380 authorizing remediation of both the 600-yard bullet catcher and the southeast wing of Building 3A areas of the LCAAP. On the basis of this EA, NRC has concluded that this licensing action would not have any significant effect on the quality of the human environment and does not warrant the preparation of an EIS. Accordingly, it has been determined that a FONSI is appropriate.

FOR FURTHER INFORMATION CONTACT: For further details with respect to this action, the EA and other documents related to this proposed action are available for public inspection and copying at the NRC's Website, http://www.nrc.gov (the electronic reading room).

Dated at Rockville, Maryland, this 5th day of July 2000.
For the U.S. Nuclear Regulatory Commission.
Larry W. Camper,
Chief, Decommissioning Branch, Division of Waste Management, Office of Nuclear Material Safety and Safeguards.

[FR Doc. 00-17467 Filed 7-10-00; 8:45 am]

BILLING CODE 7590-01-P